DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB. 1. Voluntary Industry Partner Surveys to Implement Executive Order 12862—Extension—0990-0220—The Department of Health and Human Services plans to conduct surveys of its contractors in each agency to obtain feedback for improving the Department's procurement process. Respondents: Contractors of the Department;

Number of Respondent: 2400;

Average Burden per Response: 12 minutes.

Total Annual Burden: 480 hours.

OMB Desk Officer: Allison Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington, DC, 20201. Written comments should be received within 30 days of this notice.

Dated: October 10, 2000.
Dennis P. Williams,
Deputy Assistant Secretary, Budget.

[FR Doc. 00-27086 Filed 10-23-00; 8:45 am]

BILLING CODE 4150-24-M